DEPARTMENT OF COMMERCE

International Trade Administration

[C-469-818]

Ripe Olives From Spain: Preliminary Results of Countervailing Duty Administrative Review, and Partial Rescission of Review; 2021

AGENCY: Enforcement and Compliance, International Trade Administration, Department of Commerce.

SUMMARY: The U.S. Department of Commerce (Commerce) preliminarily determines that countervailable subsidies are being provided to producers/exporters of ripe olives from Spain during the period of review, January 1, 2021, through December 31, 2021. In addition, we are rescinding the administrative review with respect to four companies. Interested parties are invited to comment on these preliminary results.

DATES: Applicable September 7, 2023.

FOR FURTHER INFORMATION CONTACT: Dusten Hom or Theodore Pearson, AD/CVD Operations, Office I, Enforcement and Compliance, International Trade Administration, U.S. Department of Commerce, 1401 Constitution Avenue NW, Washington, DC 20230; telephone: (202) 482-5075 or (202) 482-2631, respectively.

SUPPLEMENTARY INFORMATION:

Background

On August 1, 2018, Commerce published in the Federal Register the countervailing duty (CVD) order on ripe olives from Spain.¹ On August 2, 2022, we published in the Federal Register a notice of opportunity to request an administrative review of the Order.² On October 11, 2022, based on timely requests for an administrative review, Commerce published the notice of initiation of an administrative review of the Order for seven companies.³ On December 14, 2022, Commerce selected Agro Sevilla Aceitunas S.Coop And. (Agro Sevilla) and Angel Camacho Alimentacion, S.L. (Camacho) as the mandatory respondents in this administrative review.⁴

¹ See Ripe Olives from Spain: Amended Final Affirmative Countervailing Duty Determination and Countervailing Duty Order, 83 FR 37469 (August 1, 2018) (Order).

² See Antidumping or Countervailing Duty Order, Finding, or Suspended Investigation; Opportunity to Request Administrative Review, 87 FR 47187 (August 2, 2022).

³ See Initiation of Antidumping and Countervailing Duty Administrative Reviews, 87 FR 61278 (October 11, 2022).

⁴ See Memorandum, “Respondent Selection Memorandum; 2021,” dated December 14, 2022.

On April 11, 2023, Commerce extended the deadline for the preliminary results of this review until August 31, 2023.⁵ For a complete description of the events that followed the initiation of this review, see the Preliminary Decision Memorandum.⁶

⁵ See Memorandum, “Extension of Deadline for Preliminary Results of Countervailing Duty Administrative Review,” dated April 11 2023.

⁶ See Memorandum, “Decision Memorandum for the Preliminary Results of the Countervailing Duty Administrative Review: Ripe Olives from Spain; 2021,” dated concurrently with, and hereby adopted by, this notice (Preliminary Decision Memorandum).

A list of topics discussed in the Preliminary Decision Memorandum is attached as the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Scope of the Order

The products covered by the Order are ripe olives from Spain. For a complete description of the scope of the Order, see the Preliminary Decision Memorandum.

Methodology

Commerce is conducting this administrative review in accordance with section 751(a)(1)(A) of the Tariff Act of 1930, as amended (the Act). For each of the subsidy programs found to be countervailable, Commerce preliminarily determines that there is a subsidy (i.e., a financial contribution by an “authority” that gives rise to a benefit to the recipient, and that the subsidy is specific). For a full description of the methodology underlying our conclusions, including our reliance, in part, on facts otherwise available pursuant to section 776(a) of the Act, see the Preliminary Decision Memorandum.

Partial Rescission of Administrative Review

Commerce's practice is to rescind an administrative review of a CVD order, pursuant to 19 CFR 351.213(d)(3), when there are no reviewable entries of subject merchandise during the POR for which liquidation is suspended.⁷ Normally, upon completion of an administrative review, the suspended entries are liquidated at the CVD assessment rate calculated for the review period.⁸ Therefore, for an administrative review of a company to be conducted, there must be a reviewable, suspended entry that Commerce can instruct U.S. Customs and Border Protection (CBP) to liquidate at the calculated CVD assessment rate calculated for the review period.⁹

⁷ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁸ See 19 CFR 351.212(b)(2).

⁹ See 19 CFR 351.213(d)(3).

On December 20, 2022, we issued a memorandum notifying parties of our intent to rescind this administrative review with respect to four companies: (1) Aceitunera del Norte de Cáceres, S.Coop.Ltda. de 2° Grado; (2) Alimentary Group Dcoop S.Coop. And.; (3) Internacional Olivarera, S.A.; and (4) Plasoliva, S.L. We received no comments from interested parties regarding our intention to rescind the review with respect to the four companies. Accordingly, in the absence of reviewable, suspended entries of subject merchandise during the POR, we are rescinding this administrative review with respect to these four companies, in accordance with 19 CFR351.213(d)(3).

Preliminary Rate for Non-Selected Companies Under Review

There is one company (i.e., Aceitunas Guadalquivir, S.L.) for which a review was requested and not rescinded, and which was not selected as mandatory respondents or found to be cross-owned with a mandatory respondent. For this company, because the rates calculated for the mandatory respondents, Agro Sevilla and Camacho, were above de minimis and not based entirely on facts available, we are applying to the non-selected company the weighted average of the net subsidy rates calculated for Agro Sevilla and Camacho, which we calculated using the publicly-ranged sales data submitted by Agro Sevilla and Camacho.¹⁰ This methodology to establish the all-others subsidy rate is consistent with our practice and section 705(c)(5)(A) of the Act which governs the calculation of the all-others rate in an investigation. For further information on the calculation of the non-selected respondent rate, see the section in the Preliminary Decision Memorandum entitled “Non-Selected Company Rate.”

¹⁰ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale values for the merchandise under consideration. Commerce then compares (B) and (C) to (A) and selects the rate closest to (A) as the most appropriate rate for all other producers and exporters. See, e.g., Ripe Olives from Spain: Final Results of Countervailing Duty Administrative Review; 2019, 48 FR 13970 (March 11, 2022).

Preliminary Results of Review

We preliminarily find the following net countervailable subsidy rates exist for the period January 1, 2021, through December 31, 2021:

Producer/exporter | Subsidy rate (percent ad valorem)
Agro Sevilla Aceitunas S.Coop. And | 7.01
Angel Camacho Alimentación, S.L. and its cross-owned affiliates ¹¹ | 9.12
Review-Specific Average Rate Applicable to the Following Companies ¹²
Aceitunas Guadalquivir, S.L ¹³ | 7.83

Disclosure

¹¹ As discussed in the Preliminary Decision Memorandum, Commerce found the following companies to be cross-owned with Angel Camacho Alimentación, S.L.: Grupo Angel Camacho, S.L., Cuarterola S.L., and Cucanoche S.L.

¹² This rate is based on the rates for the respondents that were selected for individual review, excluding rates that are zero, de minimis, or based entirely on facts available. See section 705(c)(5)(A) of the Act.

¹³ Commerce found the following companies to be cross-owned with Aceitunas Guadalquivir, S.L.U.: Coromar Inversiones, S.L., AG Explotaciones Agricolas, S.L.U., and Grupo Aceitunas Guadalquivir, S.L.

Commerce intends to disclose its calculations and analysis performed for these preliminary results within five days of the date of publication of these preliminary results, in accordance with 19 CFR 351.224(b).¹⁴

¹⁴ See 19 CFR 351.224(b).

Assessment Rates

In accordance with 19 CFR 351.221(b)(4)(i), we preliminarily determined subsidy rates in the amounts shown above for the producer/exporters shown above. Upon completion of the administrative review, consistent with section 751(a)(1) of the Act and 19 CFR 351.212(b)(2), Commerce shall determine, and CBP shall assess, CVDs on all appropriate entries covered by this review.

For the companies for which this review is rescinded with these preliminary results, we will instruct CBP to assess countervailing duties on all appropriate entries at a rate equal to the cash deposit of estimated countervailing duties required at the time of entry, or withdrawal from warehouse, for consumption, during the period January 1, 2021, through December 31, 2021, in accordance with 19 CFR 351.212(c)(l)(i). For the companies remaining in the review, we intend to issue assessment instructions to CBP no earlier than 35 days after the date of publication of the final results of this review in the Federal Register.

If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends upon publication of the final results, to instruct CBP to collect cash deposits of estimated CVDs in the amounts calculated in the final results of this review for the respective companies listed above with regard to shipments of subject merchandise entered, or withdrawn from warehouse, for consumption on or after the date of publication of the final results of this review. If the rate calculated in the final results is zero or de minimis, no cash deposit will be required on shipments of the subject merchandise entered or withdrawn from warehouse, for consumption on or after the date of publication of the final results of this review.

For all non-reviewed firms, CBP will continue to collect cash deposits of estimated CVDs at the all-others rate or the most recent company-specific rate applicable to the company, as appropriate. These cash deposit requirements, when imposed, shall remain in effect until further notice.

Public Comment

Pursuant to 19 CFR 351.309(c), interested parties may submit case briefs to the Assistant Secretary for Enforcement and Compliance no later than 30 days after the date of publication of this notice. Rebuttal briefs, limited to issues raised in the case briefs, may be filed not later than seven days after the date for filing case briefs.¹⁵ Parties who submit case briefs or rebuttal briefs in this proceeding are encouraged to submit with each argument: (1) a statement of the issue; (2) a brief summary of the argument; and (3) a table of authorities.¹⁶ All briefs must be filed electronically using ACCESS and must be served on interested parties.¹⁷ Note that Commerce has temporarily modified certain of its requirements for serving documents containing business proprietary information, until further notice.¹⁸

¹⁵ See 19 CFR 351.309(d).

¹⁶ See 19 CFR 351.309(c)(2) and (d)(2).

¹⁷ See 19 CFR 351.303.

¹⁸ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. Requests should contain: (1) the party's name, address, and telephone number; (2) the number of participants and whether any participant is a foreign national; and (3) a list of the issues to be discussed. Issues raised in the hearing will be limited to those raised in the respective case briefs. An electronically filed hearing request must be received successfully in its entirety by Commerce's electronic records system, ACCESS, by 5:00 p.m. Eastern Time within 30 days after the date of publication of this notice. If a request for a hearing is made, parties will be notified of the date and time for the hearing to be determined. Parties should confirm by telephone the date, time, and location of the hearing two days before the scheduled date.

Final Results of Review

Unless extended, we intend to issue the final results of this administrative review, which will include the results of our analysis of the issues raised in the case briefs, within 120 days of publication of these preliminary results in the Federal Register, pursuant to section 751(a)(3)(A) of the Act and 19 CFR 351.213(h)(1).

Notification to Interested Parties

These preliminary results and notice are issued and published in accordance with sections 751(a) and 777(i)(1) of the Act, 19 CFR 351.213(d)(4), 19 CR 351.213(h) and 19 CFR 351.221(b)(4).

Dated: August 31, 2023.
Lisa W. Wang,
Assistant Secretary for Enforcement and Compliance.

Appendix

List of Topics Discussed in the Preliminary Decision Memorandum

I. Summary

II. Background

III. Scope of the Order

IV. Non-Selected Company Rate

V. Partial Rescission of Administrative Review

VI. Subsidies Valuation

VII. Use of Facts Otherwise Available

VIII. Analysis of Programs

IX. Recommendation

[FR Doc. 2023-19336 Filed 9-6-23; 8:45 am]

BILLING CODE 3510-DS-P